DEPARTMENT OF AGRICULTURE

Submission for OMB Review; Comment Request

June 25, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 31, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Customer Data Worksheet Request for SCIMS Record Change.

OMB Control Number: 0560-0265.

Summary of Collection: Core Customer Data is required in order to identify USDA program participants and ensure that benefits are directed to the correct customer and respective Tax Identification Numbers. There is no public law regarding the use or collection of Core Customer Data. The option to document and track Core Customer Data changes is necessary to ensure the integrity of the data and to provide the Farm Service Agency (FSA), Natural Resources and Conservation Service and Rural Development a method of verifying the validity of the information, and provide a necessary basis for pursuing legal remedies when needed.

Need and Use of the Information: Core Customer Data is necessary to input customer information for identity purposes and to provide a point of contact for the respective customer and a valid Tax Identification Number to direct program benefits to. The AD-2047 will be used to document Corel Customer Data changes and also to provide a method to identify who made applicable changes and when this was done. Failure to collect and timely maintain the data collected will result in erroneous/out dated point of contact information, which could result in program information and benefits being directed to incorrect recipients.

Description of Respondents: Individuals or households.

Number of Respondents: 51,750.

Frequency of Responses: Reporting: Other (when necessary).

Total Burden Hours: 8,798.

Ruth Brown,
Departmental Information Collection Clearance Officer.

[FR Doc. 2014-15341 Filed 6-30-14; 8:45 am]

BILLING CODE 3410-05-P